DEPARTMENT OF THE INTERIOR

National Park Service

[NPS-WASO-NAGPRA-14498; PPWOCRADN0-PCU00RP14.R50000]

Notice of Inventory Completion: U.S. Department of the Interior, National Park Service, Grant-Kohrs Ranch National Historic Site, Deer Lodge, MT

AGENCY: National Park Service, Interior.

ACTION: Notice.

SUMMARY: The U.S. Department of the Interior, National Park Service, Grant-Kohrs Ranch National Historic Site has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to Grant-Kohrs Ranch National Historic Site. If no additional requestors come forward, transfer of control of the human remains to the Indian tribes or Native Hawaiian organizations stated in this notice may proceed.

DATES: Representatives of any Indian tribe or Native Hawaiian organization not identified in this notice that wish to request transfer of control of these human remains should submit a written request with information in support of the request to Grant-Kohrs Ranch National Historic Site at the address in this notice by January 27, 2014.

ADDRESSES: Jacqueline Lavelle, Superintendent, Grant-Kohrs Ranch National Historic Site, 266 Warren Lane, Deer Lodge, MT 59722, telephone 406-846-2070 x221, email jacque_lavelle@nps.gov.

SUPPLEMENTARY INFORMATION: Notice is here given in accordance with the Native American Graves Protection and Repatriation Act (NAGPRA), 25 U.S.C. 3003, of the completion of an inventory of human remains under the control of Grant-Kohrs Ranch National Historic Site, Deer Lodge, MT. The human remains were removed from an unknown location likely within the boundaries of Grant-Kohrs Ranch National Historic Site, Powell County, MT.

This notice is published as part of the National Park Service's administrative responsibilities under NAGPRA, 25 U.S.C. 3003(d)(3) and 43 CFR 10.11(d). The determinations in this notice are the sole responsibility of the Superintendent, Grant-Kohrs Ranch National Historic Site.

Consultation

A detailed assessment of the human remains was made by Grant-Kohrs Ranch National Historic Site professional staff in consultation with representatives of the Assiniboine and Sioux Tribes of the Fort Peck Indian Reservation, Montana; Blackfeet Tribe of the Blackfeet Indian Reservation of Montana; Chippewa-Cree Indians of the Rocky Boy's Reservation, Montana; Confederated Salish and Kootenai Tribes of the Flathead Reservation; Confederated Tribes of the Colville Reservation; Crow Tribe of Montana; Fort Belknap Indian Community of the Fort Belknap Reservation of Montana; Shoshone-Bannock Tribes of the Fort Hall Reservation; and Spokane Tribe of the Spokane Reservation (hereafter referred to as “The Tribes”).

History and description of the remains

At an unknown date, human remains representing, at minimum, one individual were removed from an unknown location likely within the boundaries of Grant-Kohrs Ranch National Historic Site in Powell County, MT. In 1970, the human remains were found in a tobacco box in one of the historic buildings at the ranch. Based on oral historical accounts from the ranch's owners, the remains likely originated from a burial in the park that was exposed by erosion prior to NPS ownership. No known individuals were identified. No associated funerary objects are present.

Determinations made by Grant-Kohrs Ranch National Historic Site

Officials of Grant-Kohrs Ranch National Historic Site have determined that:

• Pursuant to 25 U.S.C. 3001(9), the human remains described in this notice are Native American based on osteological analysis and likely origin.

• Pursuant to 25 U.S.C. 3001(9), the human remains described in this notice represent the physical remains of one individual of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Confederated Salish & Kootenai Tribes of the Flathead Reservation.

• Treaties, Acts of Congress, or Executive Orders, indicate that the land from which the Native American human remains were removed is the aboriginal land of the Confederated Salish & Kootenai Tribes of the Flathead Reservation and Confederated Tribes of the Colville Reservation.

• Other credible lines of evidence, including relevant and authoritative governmental determinations and information gathered during government-to-government consultation from subject matter experts, indicate that the land from which the Native American human remains were removed is the aboriginal land of the Assiniboine and Sioux Tribes of the Fort Peck Indian Reservation, Montana; Blackfeet Tribe of the Blackfeet Indian Reservation of Montana; Chippewa-Cree Indians of the Rocky Boy's Reservation, Montana; Crow Tribe of Montana; Fort Belknap Indian Community of the Fort Belknap Reservation of Montana; Shoshone-Bannock Tribes of the Fort Hall Reservation; and Spokane Tribe of the Spokane Reservation.

• Pursuant to 43 CFR 10.11(c)(1), the disposition of the human remains may be to The Tribes.

Additional Requestors and Disposition

Representatives of any Indian tribe or Native Hawaiian organization not identified in this notice that wish to request transfer of control of these human remains should submit a written request with information in support of the request to Jacqueline Lavelle, Superintendent, Grant-Kohrs Ranch National Historic Site, 266 Warren Lane, Deer Lodge, MT 59722, telephone 406-846-2070 x221, email jacque_lavelle@nps.gov, by January 27, 2014. After that date, if no additional requestors have come forward, transfer of control of the human remains to The Tribes may proceed.

Grant-Kohrs Ranch National Historic Site is responsible for notifying The Tribes that this notice has been published.

Dated: November 14, 2013.
David Tarler,
Acting Manager, National NAGPRA Program.

[FR Doc. 2013-30680 Filed 12-24-13; 8:45 am]

BILLING CODE 4312-50-P